DEPARTMENT OF TRANSPORTATION

Federal Highway Administration

Notice of Final Federal Agency Actions on Proposed Highway in Wisconsin

AGENCY: Federal Highway Administration (FHWA), DOT.

ACTION: Notice of limitation on claims for judicial review of actions by FHWA, Army Corps of Engineers (USACE), and Other Federal Agencies.

SUMMARY: This notice announces actions taken by FHWA that are final within the meaning of 23 U.S.C. 139(1)(1). The actions relate to a proposed highway project, the WIS 23 Corridor Expansion Project, in the State of Wisconsin. Those actions grant approval for the project. The project will widen the existing two-lane roadway to four travel lanes with a median for an 18.6-mile segment of WIS 23 between US 151 and County P in Fond du Lac and Sheboygan Counties, Wisconsin. Specific actions include acquiring additional right-of-way, constructing two interchanges and one jug-handle interchange, constructing new travel lanes, constructing a median with a median treatment, constructing a multi-use path, installing new bridges and box culverts, removing and placing fill, removing vegetation, and providing storm water management measures. The project also includes mitigation and restoration actions which are compatible with land use plans.

DATES: By this notice, FHWA is advising the public of final agency actions subject to 23 U.S.C. 139(1)(1). A claim seeking judicial review of the Federal agency actions on the highway project will be barred unless the claim is filed within 180 days of publication of this Federal Register notice. If the Federal law that authorizes judicial review of a claim provides a time period of less than 180 days for filing such claim, then that shorter time period still applies.

FOR FURTHER INFORMATION CONTACT: Tracey McKenney, Major Projects Manager, Federal Highway Administration, 525 Junction Road, Suite 8000 Madison, Wisconsin 53717; telephone: 608-829- 7510; and e-mail: tracey.mckenney@dot.gov.

SUPPLEMENTARY INFORMATION: Notice is hereby given that FHWA has taken final agency actions by issuing approval for the following highway project: WIS 23 Corridor Expansion Project. The purpose of the project is to improve safety and mobility along the WIS 23 corridor between Fond du Lac and Plymouth, Wisconsin. The actions by FHWA on this project, and the laws under which such actions were taken, are described in the Final Environmental Impact Statement (FEIS) approved on June 3, 2010 [FHWA-WI-EIS-04-03-F], in the FHWA Record of Decision (ROD) issued September 27, 2010, and in other documents in the FHWA administrative record for the project. The EIS, ROD, and other documents in the FHWA administrative record are available by contacting FHWA or the Wisconsin Department of Transportation, Northeast Region, Green Bay office at the addresses provided. The FEIS can be viewed and downloaded from the project Web site http://www.dot.wisconsin.gov/projects/d3/wis23/environ.htm. Copies are also available for review at the following locations:

FHWA, Wisconsin Division Office, 525 Junction Road, Suite 8000, Madison, Wisconsin 53717.

Bureau of Equity and Environmental Services, Wisconsin Department of Transportation, 4802 Sheboygan Ave, Room 451, PO Box 7965, Madison, WI 53707-7965.

Wisconsin Department of Transportation-NE Region. 944 Vanderperren Way, Green Bay, WI 54324-0080.

This notice applies to all Federal agency decisions as of the issuance date of this notice and all laws under which such actions were taken, including but not limited to:

1. General: National Environmental Policy Act (NEPA) [42 U.S.C. 4321-4335]; Federal-Aid Highway Act [23 U.S.C. 109].

2. Air: Clean Air Act, as amended [42 U.S.C. 7401-7671(q)].

3. Land: Section 4(f) of the Department of Transportation Act of 1966 [23 U.S.C. 138, 49 U.S.C. 303]; Farmland Protection Policy Act of 1980 [7 U.S.C. 4201-4209], National Trails System Act [16 U.S.C. 1241-1249].

4. Wildlife: Endangered Species Act of 1973 [16 U.S.C. 1531-1543 and Section 1536]; Fish and Wildlife Coordination Act [16 U.S.C. 661-666(c)]; Migratory Bird Treaty Act [16 U.S.C. 760c-760g].

5. Historic and Cultural Resources: Section 106 of the National Historic Preservation Act of 1966, as amended [16 U.S.C. 470(f) et. seq.]; Archeological Resources Protection Act of 1977 [16 U.S.C. 470(aa)-470(ll)]; Archeological and Historic Preservation Act [16 U.S.C. 469-469(c)]; Native American Grave Protection and Repatriation Act [25 U.S.C. 3001 et. seq.].

6. Social and Economic: Civil Rights Act of 1964 [42 U.S.C. 2000(d) et. seq.]; American Indian Religious Freedom Act [42 U.S.C. 1996]; Americans with Disabilities Act [42 U.S.C. 12101]; Uniform Relocation Assistance and Real Property Acquisition Act of 1970 [42 U.S.C. 4601 et seq. as amended by the Uniform Relocation Act Amendments of 1987 [Pub. L. 100-17].

7. Wetlands and Water Resources: Clean Water Act (Section 404, Section 401, Section 319) [33 U.S.C. 1251-1376]; Land and Water Conservation Fund [16 U.S.C. 460l-4 to 460l-11]; Safe Drinking Water Act [42 U.S.C. 300(f)-300(j)(6)]; TEA-21 Wetlands Mitigation [23 U.S.C. 103(b)(6)(m), 133(b)(11)]; Flood Disaster Protection Act, [42 U.S.C. 4001-4128]; Emergency Wetlands Resources Act, [16 U.S.C. 3921, 3931].

8. Hazardous Materials: Comprehensive Environmental Response, Compensation, and Liability Act of 1980 (CERCLA) as amended [42 U.S.C. 9601-9657]; Superfund Amendments and Reauthorization Act of 1986 [Pub. L. 99-499]; Resource Conservation and Recovery Act [42 U.S.C. 6901 et. seq.].

9. Executive Orders: E.O. 11990 Protection of Wetlands; E.O. 11988 Floodplain Management as amended by E.O. 12148; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(1)(1).

Issued on: November 29, 2010.
Tracey McKenney,
Major Projects Manager (Team Lead), Madison Wisconsin.

[FR Doc. 2010-30511 Filed 12-3-10; 8:45 am]

BILLING CODE 4910-RY-P